INTERNATIONAL TRADE COMMISSION

[USITC SE-13-030]

Sunshine Act Meeting

AGENCY HOLDING THE MEETING: United States International Trade Commission

TIME AND DATE: November 15, 2013 at 9:30 a.m.

PLACE: Room 101, 500 E Street SW., Washington, DC 20436, Telephone: (202) 205-2000.

STATUS: Open to the public

MATTERS TO BE CONSIDERED:

1. Agendas for future meetings: none

2. Minutes

3. Ratification List

4. Vote in Inv. Nos. 701-TA-503-504 and 731-TA-1229-1230 (Preliminary) (Monosodium Glutamate from China and Indonesia). The Commission is currently scheduled to complete and file its determinations on or before November 18, 2013; Commissioners' opinions will be issued on November 25, 2013.

5. Outstanding action jackets: none

In accordance with Commission policy, subject matter listed above, not disposed of at the scheduled meeting, may be carried over to the agenda of the following meeting. Earlier notification of this meeting was not possible.

By order of the Commission:
Issued: November 7, 2013.
William R. Bishop,
Supervisory Hearings and Information Officer.

[FR Doc. 2013-27361 Filed 11-12-13; 11:15 am]

BILLING CODE 7020-02-P